DEPARTMENT OF TRANSPORTATION

Surface Transportation Board

[STB Finance Docket No. 34881]

Union Pacific Railroad Company—Trackage Rights Exemption—BNSF Railway Company

BNSF Railway Company (BNSF) has agreed to grant overhead trackage rights to Union Pacific Railroad Company (UP) over BNSF's line of railroad between “Bullfrog Junction” Near BNSF's Puyalloy River Bridge 8.78 and the point of connection with BNSF's Seattle Division main line at River Street Interlocking, BNSF Milepost 38.94X, in Tacoma, WA, a distance of approximately 0.6 miles.

The transaction was scheduled to be consummated on ora after June 7, 2006, the effective date of the exemption.¹

¹ A decision served on June 6, 2006, denied a petition to stay the operation of the notice of exemption filed by John D. Fitzgerald, for and on behalf of the United Transportation Union-General Committee of Adjustment. Dennis R. Pierce filed a letter on June 5, 2006, on behalf of the Brotherhood of Locomotive Engineers and Trainman-General Committee of Adjustment in support of the stay request filed by Mr. Fitzgerald.

The purpose of the trackage rights is to create an additional overhead routing for UP trains in the Tacoma area.

As a condition to this exemption, any employees affected by the trackage rights will be protected by the conditions imposed in Norfolk and Western Ry. Co.—Trackage Rights—BN, 354 I.C.C. 605 (1978), as modified in Mendocino Coast Ry. Inc.—Lease and Operate, 360 I.C.C. 653 (1980).

This notice i8s filed under 49 CFR 1180.2(d)(7). If it contains false or misleading information, the exemption is void ab initio. Petitions to revoke the exemption under 49 U.S.C. 10502(d) may be filed at any time. The filing of a petition to revoke all not automatically stay the transaction.

An original and 10 copies of all pleadings, referring to STB Finance Docket No. 34881, must be filed with the Surface Transportation Board, 1925 K Street, NW., Washington, DC 20423-0001. In addition, a copy of each pleading must be served on: Robert T. Opal, General Commerce Counsel, 1400 Douglas Street, STOP 1580, Omaha, NE 68179.

Board decisions and notices are available on our Web site at http://www.stb.dot.gov.

Decided: June 12, 2006
Vernon a. Williams,
Secretary.

[FR Doc. E6-9481 Filed 6-19-06; 8:45 am]

BILLING CODE 4915-01-P